DEPARTMENT OF ENERGY

Federal Energy Regulatory Commission

[Project No. 1971-079]

Idaho Power Company; Notice of Availability of the Draft Environmental Impact Statement for the Hells Canyon Hydroelectric Project

July 28, 2006.

In accordance with the National Environmental Policy Act of 1969 and the Federal Energy Regulatory Commission's (Commission) regulations, 18 CFR part 380 (Order No. 486, 52 FR 47897), the Office of Energy Projects has reviewed the application for license for the Hells Canyon Project (FERC No. 1971), located on the Snake River in Washington and Adams, Counties, Idaho, and Wallowa and Baker Counties, Oregon, and has prepared a Draft Environmental Impact Statement (draft EIS) for the project. About 5,270 acres of Federal lands administered by the Forest Service (Payette and Wallowa-Whitman National Forests and Hells Canyon National Recreational Area) and the Bureau of Land Management are included within the project boundary.

The draft EIS contains staff evaluations of the Idaho Power Company's proposal and the alternatives for relicensing the Hells Canyon Project. The draft EIS documents the views of governmental agencies, non-governmental organizations, affected Indian tribes, the public, the license applicant, and Commission staff.

A copy of the draft EIS is available for review in the Commission's Public Reference Branch, Room 2A, located at 888 First Street, NE., Washington, DC 20426, 1-866-208-3676, public.referenceroom@ferc.gov. The draft EIS also may be viewed on the Commission's Web site at http://www.ferc.gov under the eLibrary link. Enter the docket number excluding the last three digits in the docket number field to access the document. For assistance, contact FERC Online Support at FERCOnlineSupport@ferc.gov or toll-free at 1-866-208-3676, or for TTY, (202) 502-8659.

CD versions of the draft EIS have been mailed to everone on the mailing list for the project. Copies of the CD, as well as a limited number of paper copies, are available from the Public Reference Room identified above.

You may also register online at http://www.ferc.gov/docs-filing/esubscription.asp to be notified via e-mail of new filings and issuances related to this or other pending projects. For assistance, contact FERC Online Support.

Comments should be filed with Magalie R. Salas, Secretary, Federal Energy Regulatory Commission, 888 First Street, NE., Washington, DC 20426. All comments must be filed by October 3, 2006, and should reference Project No. 1971-079. Comments may be filed electronically via the Internet in lieu of paper. The Commission strongly encourages electronic filings. See 18 CFR 385.2001(a)(1)(iii) and instructions on the Commission's Web site at http://www.ferc.gov under the eLibrary link.

Anyone may intervene in this proceeding based on this draft EIS (18 CFR 380.10). You must file your request to intervene as specified above.¹ You do not need intervenor status to have your comments considered.

¹ Interventions may also be filed electronically via the Internet in lieu of paper. See the previous discussion on filing comments electronically.

In addition to or in lieu of sending written comments, you are invited to attend public meetings that will be held to receive comments on the draft EIS. Two meetings have been scheduled for Thursday night, September 7, and Friday morning, September 8, 2006, in Boise, Idaho. Details of these public meetings, and other meetings yet to be scheduled, will be included in a separate notice, as well as posted on the Commission's Web site (www.ferc.gov).

For further information, contact Alan Mitchnick at (202) 502-6074, alan.mitchnick @ferc.gov; or Emily Carter at (202) 502-6512, emily.carter@ferc.gov.

Magalie R. Salas,
Secretary.

[FR Doc. E6-12717 Filed 8-4-06; 8:45 am]

BILLING CODE 6450-01-P